ARCHITECTURAL AND TRANSPORTATION BARRIERS COMPLIANCE BOARD

Notice of Public Meeting

AGENCY: Architectural and Transportation Barriers Compliance Board.

ACTION: Notice of public meeting.

SUMMARY: The Architectural and Transportation Barriers Compliance Board (Access Board or Board) is hosting a virtual public meeting to obtain further information on the appropriate low-height specification for transfer surfaces for medical diagnostic equipment.

DATES: The public meeting will take place May 12, 2022, 2:00 to 4:00 p.m. Eastern Time.

ADDRESSES: The virtual meeting will be open to the public and held via the Zoom Webinar Platform (https://www.zoomgov.com/webinar/register/WN_GFoTS44-R7qWdh6GF0xLPg). Requests to speak during the meeting must be submitted via email to Rose Marie Bunales at bunales@access-board.gov by May 11, 2022. Please type “Request to Speak” in the email subject line. Speakers will be limited to three minutes during the virtual meeting. Written comments may be submitted until May 27, 2022. Submit written comments via email to mde@access-board.gov.

FOR FURTHER INFORMATION CONTACT: To register to attend this virtual meeting, visit: https://www.zoomgov.com/webinar/register/WN_GFoTS44-R7qWdh6GF0xLPg. For further information, contact Bobby Stinnette of the Access Board by email at stinnette@access-board.gov or by phone at 202-272-0021. Communication access via real-time translation and sign language interpretation will be provided. To request additional reasonable accommodations for the virtual meeting please contact Bobby Stinnette by May 5, 2022.

SUPPLEMENTARY INFORMATION:

Background

Section 510 of the Rehabilitation Act charges the Access Board with developing and maintaining accessibility standards for medical equipment used by health care providers for diagnostic purposes, including examination tables and chairs, weight scales, and imaging equipment. 29 U.S.C. 794f. In January 2017, the Board issued a final rule establishing accessibility standards for medical diagnostic equipment (MDE Standards). 82 FR 2810 (codified at 36 CFR part 1195). The MDE Standards set forth minimum technical criteria to ensure that medical diagnostic equipment in physician's offices, clinics, emergency rooms, hospitals, and other medical settings is independently accessible to, and usable by, individuals with disabilities.

The MDE Standards address the height and adjustability of MDE equipment that patients who use wheelchairs must transfer onto, including examination tables and chairs, procedure tables, and imaging equipment with tables. It is important that the height of these transfer surfaces align with a patient's wheelchair seat height to facilitate a safe transfer between diagnostic equipment and mobility devices. Transfer surfaces that align with the seat heights of mobility devices reduce the effort needed by patients to transfer since they do not have to lift their body weight to make up the difference between the two surfaces.

In the Notice of Proposed Rulemaking for the MDE Standards, the Board sought public comment on whether the height of transfer surfaces should be adjustable within a range of 17 inches minimum and 25 inches maximum. 77 FR 6916, 6922 (Feb. 9, 2012). These dimensions were based on findings from a major study on the human measures of people who use wheeled mobility devices in the United States conducted by the University of Buffalo Center for Inclusive Design and Environmental Access (IDeA Center) with funding from the Access Board and the National Institute for Disability, Independent Living, and Rehabilitation Research. Completed in 2010, the Anthropometry of Wheeled Mobility Project collected anthropometric data on 495 subjects who use wheelchairs, power chairs, and scooters. Researchers measured wheelchair seat height, occupied length, turning radii, reach ranges, and other dimensions (Steinfeld, E., Paquet, V., D'Souza, C., Joseph, C., and Maisel, J. “Anthropometry of Wheeled Mobility: Final Report” (2010), available at http://idea.ap.buffalo.edu/wp-content/uploads/sites/110/2020/01/AnthropometryofWheeledMobilityProject_FinalReport.pdf).

Findings from this project indicated that the occupied seat heights for people who use wheeled mobility devices vary considerably. Seat heights ranged from 16.3 inches to 23.9 inches for manual wheelchair users, 16.2 inches to 28.9 inches for power wheelchair users, and 18.8 inches to 25.3 inches for scooter users. Based on this data, researchers concluded that a transfer surface that is adjustable from a height of 17 inches minimum to 25 inches maximum would accommodate the 5th to the 95th percentile range of those who used wheeled mobility aids (Id., Section 4.3.2, p. 89).

In an analysis of the data on seat height, researchers further determined that a low transfer height of 17 inches would exclude 6% of manual wheelchairs in the project database. According to this analysis, “[i]ncreasing the minimum above 17 in. even two inches . . . would exclude a significant proportion of the manual wheelchair group, in particular, over 30% of the females in the sample.” D'Souza, C., Steinfeld, E., “Analysis of Seat Height for Wheeled Mobility Devices” (July 19, 2011), available at http://idea.ap.buffalo.edu/wp-content/uploads/sites/110/2019/08/23.pdf.

In the Notice for Proposed Rulemaking, the Board sought comment on the height and adjustability of transfer surfaces and whether transfer surface heights should be adjustable from a low transfer position of 17 inches to a high transfer position of 25 inches. 77 FR at 6922-6933. Most commenters supported a requirement for adjustability and a high transfer surface height of 25 inches but disagreed on what the low transfer height should be. Id.

On July 5, 2012, the Access Board organized an advisory committee representing stakeholders to provide recommendations on how the MDE Standards should be finalized based on the public comments received. 77 FR 39656. The MDE Accessibility Standards Advisory Committee, like the public commenters, was divided on the low transfer surface height and was unable to reach consensus regarding a minimum low transfer surface height specification. MDE Accessibility Standards Advisory Committee Report, 70, available at https://www.regulations.gov/document/ATBCB-2013-0009-0001. Advisory committee members submitted minority reports supporting their views.

Minority reports submitted by the disability advocates and academics supported a minimum low height of 17 inches to ensure as many independent transfers as possible. They noted that a 17-inch low height provides the greatest number of individuals the opportunity to transfer independently. See Minority Reports from Boston Center for Independent Living Inc., National Network for ADA Centers, and Medical Diagnostic Equipment Advisory Committee. Id.

The minority reports submitted by manufacturers supported a minimum low height of 19 inches. They asserted that examination tables and chairs that can meet the 19-inch height are available but that there were no products on the market that met the 17-inch height. See Minority Reports from the Brewer Company, LLC, Hologic, Inc., Midmark Corporation, MITA Advisory Committee Members, and Recommendation of 19-inch Lower Adjustable Height as the Minimum Accessibility Standard (Joint Report). Manufacturers also expressed concern about the potential impacts of a 17-inch low height on diagnostic imaging medical equipment with tables, such as x-ray scanners, CTs, PETs and MRIs. A reduction in the low transfer surface height of a few inches may involve significant re-engineering and require FDA retesting and recertification according to these reports. See Minority Report of GE Healthcare, Phillips Healthcare, Siemens Healthcare, and Hologic, Inc. Id.

On January 9, 2017, the Access Board issued the MDE final rule, in which the Board specified that transfer surfaces be adjustable from a low transfer position at a height of 17-19 inches to a high transfer position at a height of 25 inches. It also required that the transfer surface be adjustable to four unspecified heights between the high and low transfer height separated by a minimum of one inch. 36 CFR part 1195, Appendix, M301.2.1 & M302.2.2. The 17-19 inch low transfer height was set as a temporary range with a five-year sunset provision. Id. As explained in the preamble to the final rule, the Board took this approach because “there was insufficient information to designate a single minimum low height requirement at this time. Specifically, there [was] insufficient data on the extent to which and how many individuals would benefit from a transfer height lower than 19 inches.” 82 FR at 2816.

During the five-year sunset period, the Board said it would further study this issue and collect additional information. Id. On February 3, 2022, the Board issued a direct final rule to extend the sunset provision until January 10, 2025, to provide additional time to complete its research and the required rulemaking processes to establish a final specification for the low transfer surface height. 87 FR 6037.

In 2021, the Board commissioned a secondary analysis of the Anthropometry of Wheeled Mobility database and wheelchair seat height. This analysis was undertaken because some segments of the population in the Anthropometry of Wheeled Mobility Project test sample were over- or under-represented. Specifically, the test population was younger in age and included more men than women compared to the estimated U.S. population. In addition, the researchers intentionally oversampled powered wheelchair users, which tend to have seat heights higher than manual wheelchairs, in order to capture the sizes and space requirements of this group. (“Anthropometry of Wheeled Mobility: Final Report,” Section 3.1, pp. 36-37).

In this 2021 study, researchers statistically resampled data on occupied seat heights for manual and powered wheelchair users to create virtual samples that were proportionally representative of the total population of wheelchair users in the United States in terms of device type (manual wheelchairs or powered wheelchairs), gender, and age category (18 to 64 years or 65 years and older). Based on demographically representative sampling, the study estimates that 4.5% of wheelchair users have a seat height equal to or less than 17 inches, 21% had a seat height equal to or less than 18 inches, and 42% had a seat height equal to or less than 19 inches. (D'Souza, C., (January 28, 2022), “Analysis of Low Wheelchair Seat Heights and Transfer Surfaces for Medical Diagnostic Equipment: Final Report” available at https://www.access-board.gov/research/human/wheelchair-seat-height/).

Announcement of Public Meeting

In light of these latest findings from the resampling analysis, the Access Board has decided to hold a public hearing to gather additional information on the low transfer height for MDE transfer surfaces from disability advocates, manufacturers of MDE, researchers and other stakeholders and interested parties. The Board is particularly interested in information on what the low height is for adjustable MDE products that are currently on the market and any changes or innovations in their design and engineering that may have occurred since the Board issued the MDE standards in 2017. The Board is aware of at least some examination tables and chairs that can adjust to a height of 17 inches or less. The Board is also interested in updated information on the incremental costs for the design or redesign and manufacture of examination tables and chairs and diagnostic imaging medical equipment with tables that can provide a low transfer height of 17 inches.

Christopher Kuczynski,
General Counsel, U.S. Access Board.

[FR Doc. 2022-07724 Filed 4-8-22; 8:45 am]

BILLING CODE 8150-01-P